DEPARTMENT OF THE INTERIOR

Bureau of Land Management

[NV-040-07-5101-ER-F336; (N-77484)]

Notice of Availability of the Draft Environmental Impact Statement (EIS) for a Proposed Coal-fired Electric Power Generating Plant in Southeastern Lincoln County and Notice of Public Meetings; Nevada

AGENCY: Bureau of Land Management, Interior.

ACTION: Notice of availability.

SUMMARY: Pursuant to section 102(2)(C) of the National Environmental Policy Act (NEPA) of 1969, a Draft EIS has been prepared by the Bureau of Land Management (BLM), Ely Field Office, for the Toquop Energy Project and is now available for comment. This document evaluates the environmental effects from constructing a 750-megawatt (MW) coal-fired electric power generating plant and associated features on public lands in Lincoln County, Nevada.

DATES: The Draft EIS is now available for comment. Copies of the Draft EIS will be mailed to individuals, agencies, or companies who previously requested copies. Mailed comments on the Draft EIS must be postmarked by December 11, 2007. Written comments on the document should be addressed to Jane Peterson, Project Manager/Energy, Bureau of Land Management, Ely Field Office, HC 33 Box 33500, Ely, Nevada 89301-9408. Comments may also be faxed to (775) 289-1910. Oral and/or written comments may also be presented at four public meetings. These public meetings will be held in St. George, Utah, and Caliente, Mesquite, Las Vegas, and Reno, Nevada. The date, time, and location will be made available at least 15 days before the meetings.

ADDRESSES: Public reading copies of the Draft EIS will be available for reading at the locations listed below:

—University of Nevada-Reno, Getchell Library, Government Publication Dept., Reno, NV 89507.

—Lincoln County Library, #63 Main St., Pioche, NV 89043.

—Mesquite Library, 1221 W. 1st St., Mesquite, NV 89027.

—Clark County Library, 1401 E. Flamingo Rd., Las Vegas, NV 89119.

—Web site: http://www.blm.gov/eis/nv/toquop.

A limited number of copies of the document will be available at the following BLM offices:

—Ely Field Office, 702 North Industrial Way, Ely, NV 89301-9408.

—Las Vegas Field Office, 4701 N. Torrey Pines Drive, Las Vegas, NV 89130.

—Nevada State Office, 1340 Financial Boulevard, Reno, NV 89502-7147.

—Washington Office of Public Affairs, 1849 C Street, Room 406-LS, Washington, DC 20240.

You may submit comments on the Draft EIS by any of the following methods:

• Mail: Jane Peterson, Project Manager/Energy, Bureau of Land Management, Ely Field Office, HC 33 Box 33500, Ely, NV 89301-9408.

• Fax: 775-289-1910.

Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations, businesses, and from individuals identifying themselves as representatives or officials of organizations or businesses will be available for public inspection in their entirety.

FOR FURTHER INFORMATION CONTACT: Brenda Linnell at the above address, or by telephone: 775-289-1808.

SUPPLEMENTARY INFORMATION: The Draft EIS addresses alternatives to resolve the following major issues: air quality, visual resources, biological resources, and socioeconomic effects. On June 15 and June 28, 2001, Toquop Energy Inc., filed applications for Federal Land Policy and Management Act rights-of-way and a temporary use permit to construct and operate a 1,100 MW gas-fired power plant to be located in southeast Lincoln County. The rights-of-way included: (1) The power plant site; (2) gas pipeline, overhead power line, and access road from the main road to the power plant site; (3) a water pipeline; (4) an access road from Interstate 15 to the proposed project site; (5) a water pipeline, electrical line and well field access road running from the proposed power plant site to a terminus point in the proposed well field site in the Tule Desert Area; and (6) a well field in the Tule Desert area, and an associated water pump station and equalizer tank. In 2003, the BLM prepared an EIS to examine the impacts of this request. The EIS evaluated three alternatives: (1) Granting the requested rights-of-way for a northern site; and (2) granting the rights-of-way for a southern site (preferred alternative) and (3) a No Action alternative, not granting the requested rights-of-way. The BLM granted Toquop Energy Inc., the rights-of-way and temporary use permit in December 2003. The 2003 EIS considered several project and right-of-way alternatives, including the use of alternative fuels in lieu of a gas-fired power plant. These alternative were eliminated from detailed analysis in the EIS because project economics did not support such alternatives at the time the EIS was issued. However, recent change in market conditions, driven by the ever higher and volatile prices of natural gas, makes alternative fuels more desirable and economically viable. The BLM has now completed necessary studies, and prepared a draft EIS to re-evaluate the alternative of constructing a 750 MW coal-fired power plant in lieu of an 1,100 MW gas-fired power plant, as well as to analyze the proposal to grant a new railroad right-of-way connecting the project site to the existing Union Pacific Railway near Leith, Nevada. The scope of the draft EIS is limited to evaluating the alternative of constructing a 750 MW coal plant and the new railroad access right-of-way, and subsequent disposal of the power plant site.

Public participation is occurring throughout the processing of this project application. A Notice of Intent was published in the Federal Register on February 21, 2006, 71 FR 8869-8870. One round of public meetings was held. Comments presented throughout the process have been considered and used in developing this draft EIS.

Jack Tribble,
Acting Assistant Field Manager, Nonrenewable Resources.

[FR Doc. E7-20162 Filed 10-11-07; 8:45 am]

BILLING CODE 4310-HC-P